DEPARTMENT OF STATE

[Public Notice: 9442]

Biodiversity Beyond National Jurisdiction; Notice of Public Meeting

ACTION: Notice of Public Meeting.

Title: Biodiversity Beyond National Jurisdiction; Notice of Public Meeting.

SUMMARY: The Department of State will hold an information session regarding issues related to upcoming United Nations meetings concerning marine biodiversity in areas beyond national jurisdiction.

DATES: The public meeting will be held on February 24, 2016, 1:00 p.m.-2:30 p.m.

ADDRESSES: The meeting will be held at the Harry S. Truman Main State Building, Room 3940, 2201 C Street NW., Washington, DC 20520.

FOR FURTHER INFORMATION CONTACT: If you would like to participate in this meeting, please send your (1) Name, (2) organization/affiliation, and (3) email address and phone number, as well as any requests for reasonable accommodation, to Elana Katz-Mink at Katz-MinkEH@state.gov.

SUPPLEMENTARY INFORMATION: In March 2016, the United States will participate in a two-week meeting of the United Nations General Assembly (UNGA) Preparatory Committee on conservation and sustainable use of marine biological diversity beyond areas of national jurisdiction. The first meeting of the Preparatory Committee will begin a two-year process established by the UNGA to make substantive recommendations on the elements of a draft text of a legally binding instrument on conservation and sustainable use of marine biological diversity of areas beyond national jurisdiction.

We would like to invite interested stakeholders to share comments, concerns, and questions about these issues. We, in turn, will provide a brief overview of the structure of the upcoming Preparatory Committee and will listen to your comments on the upcoming discussions at the March meeting.

The information obtained from this session and any subsequent related meetings will be used to help us prepare for U.S. participation in international meetings and specifically U.S. participation in the first meeting of the Preparatory Committee on conservation and sustainable use of marine biological diversity beyond areas of national jurisdiction.

Reasonable Accommodation: This meeting is physically accessible to people with disabilities. Requests for sign language interpretation or other reasonable accommodation should be directed to (see FOR FURTHER INFORMATION) at least 5 days prior to the meeting date. Requests received after that date will be considered, but might not be possible to fulfill.

Personal data for entry into the Harry S. Truman building are requested pursuant to Public Law 99-399 (Omnibus Diplomatic Security and Antiterrorism Act of 1986), as amended; Public Law 107-56 (USA PATRIOT Act); and E.O. 13356. The purpose of the collection is to validate the identity of individuals who enter Department facilities. The data will be entered into the Visitor Access Control System (VACS-D) database. Please see the Security Records System of Records Notice (State-36) at https://foia.state.gov/_docs/SORN/State-36.pdf for additional information.

Dated: February 8, 2016.
Evan Bloom,
Director, Office of Ocean and Polar Affairs, Bureau of Oceans and International, Environmental and Scientific Affairs, Department of State.

[FR Doc. 2016-02805 Filed 2-10-16; 8:45 am]

BILLING CODE 4710-09-P